DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines. Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2021, through September 30, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. Lerma-Marie Escobar-Remias, Washington, District of Columbia, Court of Federal Claims No: 21-1783V

2. Timothy Rodrigues, Honolulu, Hawaii, Court of Federal Claims No: 21-1785V

3. Steven Peterson, Phoenix, Arizona, Court of Federal Claims No: 21-1788V

4. George Yauneridge and Julia Yauneridge on behalf of J. Y., Pottstown, Pennsylvania, Court of Federal Claims No: 21-1789V

5. Lydia Lizalde, Phoenix, Arizona, Court of Federal Claims No: 21-1791V

6. Merlyn Bonham, Reno, Nevada, Court of Federal Claims No: 21-1792V

7. Gustavo Vega, New York, New York, Court of Federal Claims No: 21-1794V

8. Patricia Lariviere, Dresher, Pennsylvania, Court of Federal Claims No: 21-1796V

9. Amanda Breshears, Columbia, Missouri, Court of Federal Claims No: 21-1799V

10. Teresa Aultman, Birmingham, Alabama, Court of Federal Claims No: 21-1802V

11. Orie E. Fink, Pittsburgh, Pennsylvania, Court of Federal Claims No: 21-1803V

12. Virginia Waszak, Valparaiso, Indiana, Court of Federal Claims No: 21-1805V

13. Marlena Bacik, Rock Hill, South Carolina, Court of Federal Claims No: 21-1810V

14. Jian Wu on behalf of Yuqing Wu, San Gabriel, California, Court of Federal Claims No: 21-1811V

15. Angela Wessinger, Newman, Georgia, Court of Federal Claims No: 21-1812V

16. Bisera Muratovic, Johnston, Iowa, Court of Federal Claims No: 21-1813V

17. Wanda I. Rodriguez, New Haven, Connecticut, Court of Federal Claims No: 21-1814V

18. Maria Alsip, Chattanooga, Tennessee, Court of Federal Claims No: 21-1815V

19. Jordanna Valiente, Howell, New Jersey, Court of Federal Claims No: 21-1816V

20. Christina Prudden, St. Joseph, Missouri, Court of Federal Claims No: 21-1818V

21. Yanis Hernan Diaz Rojas and Nery Noelia Arita Chinchilla on behalf of Yorleni Margarita Diaz Arita, Deceased, Norcross, Georgia, Court of Federal Claims No: 21-1824V

22. Muamera Hasanovic, New York, New York, Court of Federal Claims No: 21-1828V

23. Pamela Johnson, Toledo, Ohio, Court of Federal Claims No: 21-1829V

24. McKenzie Oliver, Washington, District of Columbia, Court of Federal Claims No: 21-1831V

25. Linda Masai, Washington, District of Columbia, Court of Federal Claims No: 21-1832V

26. Elizabeth Schafer, St. Louis, Missouri, Court of Federal Claims No: 21-1834V

27. Bisera Muratovic, New York, New York, Court of Federal Claims No: 21-1835V

28. Taylor Nicol, Cass City, Michigan, Court of Federal Claims No: 21-1837V

29. Deborah R. Barber, Lancaster, South Carolina, Court of Federal Claims No: 21-1838V

30. Cora Owens, Warrensville Heights, Ohio, Court of Federal Claims No: 21-1839V

31. Ilene Busey, Coconut Creek, Florida, Court of Federal Claims No: 21-1840V

32. Caitlin M. Becker, Lafayette, Indiana, Court of Federal Claims No: 21-1841V

33. Eduardo Morelos, Perris, California, Court of Federal Claims No: 21-1842V

34. Wilburn E. Richardson, Washington, District of Columbia, Court of Federal Claims No: 21-1843V

35. Tarek Makki, Las Vegas, Nevada, Court of Federal Claims No: 21-1844V

36. Terry W. Chrisman, Van Wert, Ohio, Court of Federal Claims No: 21-1845V

37. Steven Jahn, Lakeland, Florida, Court of Federal Claims No: 21-1846V

38. Stacie Cogan, Cleveland, Ohio, Court of Federal Claims No: 21-1847V

39. Mary Ann Mitchell, Washington, District of Columbia, Court of Federal Claims No: 21-1848V

40. Silvia Quezada, Washington, District of Columbia, Court of Federal Claims No: 21-1849V

41. Jamie L. Holmes, Rockford, Illinois, Court of Federal Claims No: 21-1850V

42. William Bayley, Lafayette, Indiana, Court of Federal Claims No: 21-1851V

43. Derek Kell, Nacogdoches, Texas, Court of Federal Claims No: 21-1852V

44. Lindsey Woods, Johnston, Rhode Island, Court of Federal Claims No: 21-1853V

45. June Gregory, Memphis, Tennessee, Court of Federal Claims No: 21-1857V

46. Juan Gonzalez, Laveen, Arizona, Court of Federal Claims No: 21-1859V

47. Shannon Canitz, Mesa, Arizona, Court of Federal Claims No: 21-1860V

48. Myranda Smith on behalf of S. S., Wheeling, West Virginia, Court of Federal Claims No: 21-1863V

49. Mark Ostermiller, Boise, Idaho, Court of Federal Claims No: 21-1865V

50. Brenda Carrasquillo, Stamford, Connecticut, Court of Federal Claims No: 21-1866V

51. Melvin Price, Jacksonville, Florida, Court of Federal Claims No: 21-1867V

52. Thomas Tiver, Jr., Mt. Laurel, New Jersey, Court of Federal Claims No: 21-1868V

53. Elizabeth Ann Baker, Austin, Texas, Court of Federal Claims No: 21-1869V

54. Aileen Li, Washington, District of Columbia, Court of Federal Claims No: 21-1870V

55. Michael Frevola, New York, New York, Court of Federal Claims No: 21-1871V

56. Joyce Scratchard, Burleson, Texas, Court of Federal Claims No: 21-1875V

57. Michael Maxwell, Oviedo, Florida, Court of Federal Claims No: 21-1877V

58. Briana Watson, Kansas City, Missouri, Court of Federal Claims No: 21-1879V

59. Donna Spaid, Winchester, Virginia, Court of Federal Claims No: 21-1880V

60. Amanda Deluca, St. Louis, Missouri, Court of Federal Claims No: 21-1881V

61. Melanie Stanek, Wellesley Hills, Massachusetts, Court of Federal Claims No: 21-1882V

62. Bi Ying Gao, Houston, Texas, Court of Federal Claims No: 21-1884V

63. Terry Yormark, Chicago, Illinois, Court of Federal Claims No: 21-1886V

64. Richard Trudell, Boise, Idaho, Court of Federal Claims No: 21-1887V

65. Angela Mosley, Oklahoma City, Oklahoma, Court of Federal Claims No: 21-1889V

66. Andrea P. Giguere, Woonsocket, Rhode Island, Court of Federal Claims No: 21-1890V

67. John R. Greene, Jr., Arlington, Virginia, Court of Federal Claims No: 21-1891V

68. Rosemary Harville, Jefferson City, Tennessee, Court of Federal Claims No: 21-1893V

69. Ann Petrea Crawford, Cedar Falls, Iowa, Court of Federal Claims No: 21-1896V

70. Maryetta Spells, Deceased, Sacramento, California, Court of Federal Claims No: 21-1898V

71. George Grace, Tonawanda, New York, Court of Federal Claims No: 21-1901V

72. Janel Trepiccione, New Cumberland, Pennsylvania, Court of Federal Claims No: 21-1902V

73. Rachel Luginsky, St. Charles, Illinois, Court of Federal Claims No: 21-1903V

74. William R. Eddington, M.D., Marmaduke, Arkansas, Court of Federal Claims No: 21-1906V

75. Sheryl Askins, Philadelphia, Pennsylvania, Court of Federal Claims No: 21-1907V

76. Genevieve Arsenault, Southbridge, Massachusetts, Court of Federal Claims No: 21-1908V

77. Yesica Valdovinos Valle on behalf of M. V., Greensboro, North Carolina, Court of Federal Claims No: 21-1909V

78. John Michael Smith, Jr., Mayville, New York, Court of Federal Claims No: 21-1911V

79. Kimberly Beth Garrett, Grand Rapids, Michigan, Court of Federal Claims No: 21-1913V

80. Kevin Slayton, Annapolis, Maryland, Court of Federal Claims No: 21-1914V

81. Anna Howle on behalf of M. L. L., Washington, District of Columbia, Court of Federal Claims No: 21-1915V

82. Limor Mazlin, Washington, District of Columbia, Court of Federal Claims No: 21-1916V

83. Jo Ellen Jackman on behalf of Kenneth W. Jackman, Clarkston, Washington, Court of Federal Claims No: 21-1917V

84. Dana Ball, Wellesley Hills, Massachusetts, Court of Federal Claims No: 21-1920V

85. Janis Rockey, Hendersonville, Tennessee, Court of Federal Claims No: 21-1921V

86. Marjorie Putnam, Washington, District of Columbia, Court of Federal Claims No: 21-1923V

87. Mary Richardson, Steubenville, Ohio, Court of Federal Claims No: 21-1924V

88. Christopher Hurtte, Granite City, Illinois, Court of Federal Claims No: 21-1925V

89. Emma M. Grim, Sacramento, California, Court of Federal Claims No: 21-1927V

90. Rebecca Egan, Palmdale, California, Court of Federal Claims No: 21-1928V

91. Robert Elliott, Sioux Falls, Iowa, Court of Federal Claims No: 21-1929V

92. Linda Slafer, Orlando, Florida, Court of Federal Claims No: 21-1930V

93. Rebeka Spengler, Des Moines, Iowa, Court of Federal Claims No: 21-1932V

94. Dianne Harvanek, Lakewood, Colorado, Court of Federal Claims No: 21-1933V

95. Tamara Bernadine on behalf of E. S., Phoenix, Arizona, Court of Federal Claims No: 21-1935V

96. Tammy Macklin, Englewood, New Jersey, Court of Federal Claims No: 21-1936V

97. Michael Johnson, Englewood, New Jersey, Court of Federal Claims No: 21-1937V

98. Bonnie McKirdy, Philadelphia, Pennsylvania, Court of Federal Claims No: 21-1938V

[FR Doc. 2021-22598 Filed 10-15-21; 8:45 am]

BILLING CODE 4165-15-P